DEPARTMENT OF COMMERCE

International Trade Administration

[A-570-832]

Pure Magnesium From the People's Republic of China: Final Results of Antidumping Duty Administrative Review; 2022-2023

AGENCY: Enforcement and Compliance, International Trade Administration, Department of Commerce.

SUMMARY: The U.S. Department of Commerce (Commerce) is conducting an administrative review of the antidumping duty order on pure magnesium from the People's Republic of China (China). We determine that Tianjin Magnesium Metal Co., Ltd. (MMC) and Tianjin Magnesium International Co., Ltd. (TMI) made sales at less than normal value (NV) during the period of review (POR) May 1, 2022, through April 30, 2023.

DATES: Applicable December 13, 2024.

FOR FURTHER INFORMATION CONTACT: John Conniff, AD/CVD Operations, Office III, Enforcement and Compliance, International Trade Administration, U.S. Department of Commerce, 1401 Constitution Avenue NW, Washington, DC 20230; telephone: (202) 482-1009.

SUPPLEMENTARY INFORMATION:

Background

On June 5, 2024, Commerce published the Preliminary Results in the Federal Register and invited interested parties to comment.¹ On July 22, 2024, Commerce tolled certain deadlines in this administrative proceeding by seven days.² On September 24, 2024, Commerce extended the final results by 25 days until November 14, 2024.³ On November 8, 2024, Commerce extended the final results by 22 days until December 6, 2024.⁴ For a complete description of the events that occurred since the Preliminary Results, see the Issues and Decision Memorandum.⁵

¹ See Pure Magnesium from the People's Republic of China: Preliminary Results of Antidumping Administrative Review; 2022-2023, 89 FR 48149 (June 5, 2024) (Preliminary Results) and accompanying Preliminary Decision Memorandum (PDM).

² See Memorandum, “Tolling of Deadlines for Antidumping and Countervailing Duty Proceedings,” dated July 22, 2024.

³ See Memorandum, “Extension of Deadline for Final Results of Antidumping Duty Administrative Review,” dated September 24, 2024.

⁴ See Memorandum, “Extension of Deadline for Final Results of Antidumping Duty Administrative Review,” dated November 8, 2024.

⁵ See Memorandum, “Issues and Decision Memorandum for Pure Magnesium from the People's Republic of China; 2022-2023,” dated concurrently with, and hereby adopted by, this notice (Issues and Decision Memorandum).

Scope of the Order ⁶

⁶ See Notice of Antidumping Duty Orders: Pure Magnesium from the People's Republic of China, the Russian Federation and Ukraine; Notice of Amended Final Determination of Sales at Less Than Fair Value: Antidumping Duty Investigation of Pure Magnesium from the Russian Federation, 60 FR 25691 (May 12, 1995) (Order).

The product covered by the Order is pure magnesium from China, regardless of chemistry, form or size, unless expressly excluded from the scope of the Order. For a complete description of the scope of the Order, see the Issues and Decision Memorandum.

Analysis of Comments Received

The issues raised by MMC/TMI and the petitioner in their case and rebuttal briefs are listed in the appendix to this notice and addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Changes Since the Preliminary Results

Based on our review and analysis of the comments received from the interested parties, we made several changes to the Preliminary Results margin calculation for MMC/TMI which resulted in a change to its preliminary margin.

The China-Wide Entity

In accordance with Commerce's policy, the China-wide entity will not be under review unless a party specifically requests, or Commerce self-initiates, a review of the China-wide entity.⁷ As stated in the Preliminary Results, because no party requested a review of the China-wide entity, and Commerce did not self-initiate a review of the entity, the entity is not under review, and the entity's rate, i.e., 111.73 percent, is not subject to change.⁸ Moreover, we determine that MMC/TMI is eligible for a separate rate and thus not part of the China-wide entity.⁹

⁷ See Antidumping Proceedings: Announcement of Change in Department Practice for Respondent Selection in Antidumping Duty Proceedings and Conditional Review of the Nonmarket Economy Entity in NME Antidumping Duty Proceedings, 78 FR 65963, 65969-70 (November 4, 2013).

⁸ See Pure Magnesium from the People's Republic of China: Final Results of the 2008-2009 Antidumping Duty Administrative Review of the Antidumping Duty Order, 75 FR 80791 (December 23, 2010) (Pure Magnesium 2008-2009 Final); see also Preliminary Results, 89 FR at 48150.

⁹ In the 2011-2012 administrative review, Commerce collapsed both TMI and MMC into a single entity. See Pure Magnesium from the People's Republic of China: Final Results of Antidumping Duty Administrative Review; 2011-2012, 79 FR 94 (January 2, 2014), and accompanying Issues and Decision Memorandum at fn 1. Because there is no information on the record of this administrative review that would lead us to revisit this determination, we are continuing to treat these companies as part of a single entity for the purposes of this administrative review.

Final Results of Review

Commerce determines that the following estimated weighted-average dumping margins exist for the period May 1, 2022, through April 30, 2023:

Exporter | Weighted- average dumping margin (percent)
Tianjin Magnesium International Co., Ltd./Tianjin Magnesium Metal Co., Ltd | 32.60

Disclosure

Commerce intends to disclose to parties to the proceeding the calculations performed for these final results of review within five days of the date of publication of this notice in the Federal Register in accordance with 19 CFR 351.224(b).

Assessment Rates

Pursuant to section 751(a)(2)(C) of the Act and 19 CFR 351.212(b)(1), Commerce has determined, and CBP shall assess, antidumping duties on all appropriate entries of subject merchandise in accordance with these final results of review. Commerce intends to issue assessment instructions to CBP no earlier than 35 days after the date of publication of these final results in the Federal Register. If a timely summons is filed at the U.S. Court of International Trade, the assessment instructions will direct CBP not to liquidate relevant entries until the time for parties to file a request for a statutory injunction has expired (i.e., within 90 days of publication).

For MMC/TMI, which have a final weighted-average dumping margin that is not zero or de minimis (i.e., less than 0.5 percent), we will calculate importer-specific assessment rates, in accordance with 19 CFR 351.212(b)(1). Pursuant to 19 CFR 351.212(b)(1), where the respondent reported the entered value of its U.S. sales, we will calculate importer-specific ad valorem assessment rates based on the ratio of the total amount of dumping calculated for the examined sales to the total entered value of the sales for which entered value was reported. Where the respondent did not report entered value, we will calculate importer-specific per-unit duty assessment rates based on the ratio of the total amount of antidumping duties calculated for the examined sales to the total quantity of those sales. To determine whether an importer-specific per-unit assessment rate is de minimis in accordance with 19 CFR 351.106(c)(2), we will also calculate an importer-specific ad valorem ratio based on estimated entered values.

Pursuant to a refinement in our non-market economy practice, for sales that were not reported in the U.S. sales data submitted by MMC/TMI, we will instruction CBP to liquidate entries associated with those sales at the rate for the China-wide entity.

Cash Deposit Requirements

The following cash deposit requirements will be effective upon publication of the final results of this review for shipments of the subject merchandise from China entered, or withdrawn from warehouse, for consumption on or after the publication date, as provided by section 751(a)(2)(C) of the Act: (1) for MMC/TMI, which has a separate rate, the cash deposit rate will be the rate established in these final results of review; (2) for previously investigated or reviewed Chinese and non-Chinese exporters not listed above that received a separate rate in a prior segment of this proceeding, the cash deposit rate will continue to be the existing exporter-specific rate; (3) for all Chinese exporters of subject merchandise that have not been found to be entitled to a separate rate, the cash deposit rate will be that for the China-wide entity (i.e., 111.73 percent ¹⁰); and (4) for all non-Chinese exporters of subject merchandise which have not received their own rate, the cash deposit rate will be the rate applicable to the Chinese exporter that supplied that non-Chinese exporter. These deposit requirements, when imposed, shall remain in effect until further notice.

¹⁰ See Pure Magnesium 2008-2009 Final, 75 FR 80791.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

This notice is issued and published in accordance with sections 751(a) and 777(i) of the Act, and 19 CFR 351.213(h) and 19 CFR 351.221(b)(5).

Dated: December 6, 2024.
Abdelali Elouaradia,
Deputy Assistant Secretary for Enforcement and Compliance.

Appendix

List of Topics Discussed in the Issues and Decision Memorandum

I. Summary

II. Background

III. Scope of the Order

IV. Changes Since the Preliminary Results

V. Discussion of Issues

Comment 1: Whether the Republic of Türkiye is the Appropriate Surrogate Country

Comment 2: Differential Pricing Analysis Should Not Apply

Comment 3: Ministerial Errors

VI. Recommendation

[FR Doc. 2024-29326 Filed 12-12-24; 8:45 am]

BILLING CODE 3510-DS-P